DEPARTMENT OF COMMERCE

International Trade Administration

[A-570-890]

Wooden Bedroom Furniture From the People's Republic of China: Amended Final Results of Antidumping Duty New Shipper Review

AGENCY: Enforcement and Compliance, International Trade Administration, Department of Commerce.

SUMMARY: The Department of Commerce (the “Department”) is amending the final results of the new shipper review of the antidumping duty order on wooden bedroom furniture from the People's Republic of China covering the period January 1, 2012 through December 31, 2012 to correct a ministerial error.

DATES: Effective Date: September 25, 2014.

FOR FURTHER INFORMATION CONTACT: Lori Apodaca, AD/CVD Operations, Office IV, Enforcement and Compliance, International Trade Administration, U.S. Department of Commerce, 14th Street and Constitution Avenue NW., Washington, DC 20230; telephone: (202) 482-4551.

SUPPLEMENTARY INFORMATION: On September 2, 2014, the Department published in the Federal Register the final results of the 2012 new shipper review of the antidumping duty order on wooden bedroom furniture from the People's Republic of China.¹ Prior to that, on August 29, 2014, the Department disclosed to interested parties its calculations for the final results in accordance with 19 CFR 351.224(b). On September 2, 2014, the new shipper, Dongguan Chengcheng Furniture Co., Ltd., submitted a timely ministerial error allegation with respect to the Department's final results in the new shipper review.

¹ See Wooden Bedroom Furniture From the People's Republic of China: Final Results of Antidumping Duty Administrative Review and New Shipper Review; 2012 79 FR 51594 (September 2, 2014) (“Final Results”) and accompanying issues and decision memorandum entitled, “Wooden Bedroom Furniture from the People's Republic of China: Issues and Decision Memorandum for the Final Results of the 2012 Administrative Review and New Shipper Review.”

Ministerial Error

A ministerial error, as defined in section 751(h) of the Tariff Act of 1930, as amended (“the Act”), includes “errors in addition, subtraction, or other arithmetic function, clerical errors resulting from inaccurate copying, duplication, or the like, and any other type of unintentional error which the administering authority considers ministerial.” ² Dongguan Chengcheng Furniture Co., Ltd. alleges that the Department incorrectly identified it as “Dongguan Chengcheng Group Co., Ltd.” in the rate table for the final results of the new shipper review. Dongguan Chengcheng Furniture Co., Ltd. states that the Department used the correct name of the company, Dongguan Chengcheng Co., Ltd., in another part of the final results notice and, thus, it requests that the Department correct the name of the company in the final results rate table by eliminating the word “Group” from the company name.

² See also 19 CFR 351.224(f).

After analyzing the ministerial error allegation, in accordance with section 751(h) of the Act, we agree that we incorrectly listed the name of the company in the final results of the new shipper review. However, we have not corrected the name in the manner requested by Dongguan Chengcheng Furniture Co., Ltd. The record shows that we initiated the new shipper review on Dongguan Chengcheng Furniture Co., Ltd. Moreover, company records submitted by the new shipper show that the company's name is “Dongguan Chengcheng Furniture Co., Ltd.” Thus, we have corrected the error by removing the word “Group” from the company name and replacing it with the word “Furniture” rather than simply removing the word “Group” as requested by Dongguan Chengcheng Furniture Co., Ltd. The correct name is in the table below:

Amended Final Results of the Review

Exporter | Producer | Weighted-average dumping margin (percent)
Dongguan Chengcheng Furniture Co., Ltd | Dongguan Chengcheng Furniture Co., Ltd | 0.00

These amended final results are published in accordance with sections 751(h) and 777(i)(1) of the Act.

Dated: September 19, 2014.
Ronald K. Lorentzen,
Acting Assistant Secretary for Enforcement and Compliance.

[FR Doc. 2014-22859 Filed 9-24-14; 8:45 am]

BILLING CODE 3510-DS-P